DEPARTMENT OF AGRICULTURE

Center for Nutrition Policy and Promotion

Agency Information Collection Activities; Current Collection: Comment Request—Innovations for Healthy Kids Challenge To Promote the Open Government Initiative; Correction

AGENCY: Center for Nutrition Policy and Promotion, USDA.

ACTION: Notice; correction.

SUMMARY: The Department of Agriculture, Center for Nutrition Policy and Promotion published a document in the Federal Register on April 28, 2010, concerning requests for comments on the Innovations for Healthy Kids Challenge to Promote the Open Government Initiative. The document contained an incorrect Web address.

FOR FURTHER INFORMATION CONTACT: Donna Johnson-Bailey at 703-305-3300.

Correction

In the Federal Register of April 28, 2010, in FR/Vol. 75, No. 81 on page 22357, the third column, correct the Web site to read: http://www.appsforhealthykids.com/.

Dated: May 4, 2010.
Robert Post,
Acting Executive Director, Center for Nutrition Policy and Promotion.

[FR Doc. 2010-11055 Filed 5-10-10; 8:45 am]

BILLING CODE 3410-30-P